DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: National Hospital Organ Donation Campaign's Activity Scorecard. OMB No. 0915-xxxx—New.

Need and Proposed Use of the Information: HRSA's Healthcare Systems Bureau, Division of Transplantation administers the Workplace Partnership for Life program under the authority of Section 377A(a) of the Public Health Service (PHS) Act, (42 U.S.C. 274f-1). The Workplace Partnership for Life program seeks to increase the number of registered organ, eye, and tissue donors and to increase awareness about organ donation. HRSA launched a challenge to hospitals nationwide to assist in this effort by conducting donor education and donor registry enrollment events in their hospitals and communities. The nation's 58 organ procurement organizations (OPOs), who already work with hospitals on clinical aspects of transplantation, are invited to participate in HRSA's National Hospital Organ Donation Campaign to increase the number of enrollments in state donor registries. The Campaign supports OPOs by providing fresh communications materials, facilitating the sharing of best practices, leveraging the influence of national associations and organizations related to hospitals and organ donation, and offering the additional incentive of national-level recognition to hospitals.

The National Hospital Organ Donation Campaign's Activity Scorecard is one piece of this campaign. A campaign leadership committee comprised of representatives from OPOs, Donate Life America (DLA) affiliates, and hospitals helped conceptualize the Activity Scorecard which is based on the committee's experience of hospital receptivity to friendly competition and the opportunity to be recognized among their peers. The Activity Scorecard provides hospitals that wish to participate in the campaign with ideas for outreach activities. Each activity on the programmable PDF is assigned a particular number of points based on the activity's potential for generating registrations.

Hospitals can complete the Activity Scorecard and submit it by email or fax it to HRSA or to their OPO or DLA. This is a voluntary activity. Hospitals can participate in the campaign without using the Activity Scorecard. HRSA anticipates that most hospitals enrolled in the campaign (currently 802) will submit a completed Activity Scorecard once a year.

Most importantly, the Activity Scorecard provides incentive for hospitals to conduct activities that will increase the number of registered donors throughout the nation. A list of hospitals that reach these levels will be shared with all campaign participants during monthly webinars, in monthly campaign e-newsletters from HRSA, and in communications pieces sent out by the campaign's ten national partners, which include the American Hospital Association, the Association of Organ Procurement Organizations, and the American Society of Transplant Surgeons. In addition, OPOs, DLA affiliates, participating state hospital associations, HRSA, and the national partners can use the results to recognize hospital participation and successes. The “write-in” option that allows hospitals to list additional activities will help to identify best practices that can be shared with all hospital partners on monthly webinars.

Likely Respondents: A hospital representative, most often the organ donation champion identified by the OPO, can download the form from organdonor.gov or receive it from their OPO or Donate Life America (DLA) affiliate.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Form Name | Number of respondents | Number of responses per respondent | Total responses | Average burden per response (in hours) | Total burden hours
Name of instrument | 802 | 1 | 802 | 1 | 802
Total | 802 | 1 | 802 | 1 | 802

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: July 8, 2013.
Bahar Niakan,
Director, Division of Policy and Information Coordination.

[FR Doc. 2013-16894 Filed 7-12-13; 8:45 am]

BILLING CODE 4165-15-P